DEPARTMENT OF LABOR

Occupational Safety and Health Administration

[Docket No. OSHA-2006-0042]

CSA Group Testing & Certification Inc.: Grant of Expansion of Recognition

AGENCY: Occupational Safety and Health Administration (OSHA), Labor.

ACTION: Notice.

SUMMARY: In this notice, OSHA announces the final decision to expand the scope of recognition for CSA Group Testing & Certification Inc., for expansion of the recognition as a Nationally Recognized Testing Laboratory (NRTL).

DATES: The expansion of the scope of recognition becomes effective on July 17, 2024.

FOR FURTHER INFORMATION CONTACT: Information regarding this notice is available from the following sources:

Press inquiries: Contact Mr. Frank Meilinger, Director, OSHA Office of Communications, U.S. Department of Labor; telephone (202) 693-1999 or email meilinger.francis2@dol.gov.

General and technical information: Contact Mr. Kevin Robinson, Director, Office of Technical Programs and Coordination Activities, Directorate of Technical Support and Emergency Management, Occupational Safety and Health Administration, U.S. Department of Labor; telephone (202) 693-1911 or email robinson.kevin@dol.gov.

SUPPLEMENTARY INFORMATION:

I. Notice of Final Decision

OSHA hereby gives notice of the expansion of the scope of recognition of CSA Group Testing & Certification Inc. (CSA) as a NRTL. CSA's expansion covers the addition of ten test standards and one testing site to the NRTL scope of recognition.

OSHA recognition of a NRTL signifies that the organization meets the requirements specified in 29 CFR 1910.7. Recognition is an acknowledgment that the organization can perform independent safety testing and certification of the specific products covered within the scope of recognition. Each NRTL's scope of recognition includes: (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition and for an expansion or renewal of this recognition, following requirements in Appendix A to 29 CFR 1910.7. This appendix requires that the agency publish two notices in the Federal Register in processing an application. In the first notice, OSHA announces the application and provides a preliminary finding. In the second notice, the agency provides a final decision on the application. These notices set forth the NRTL's scope of recognition or modifications of that scope. OSHA maintains an informational web page for each NRTL, including CSA, which details the NRTL's scope of recognition. These pages are available from the OSHA website at http://www.osha.gov/dts/otpca/nrtl/index.html.

CSA submitted two applications to OSHA for expansion of the NRTL scope of recognition. The first application, received on January 18, 2022 (OSHA-2006-0042-0037), requested the addition of four standards to the NRTL scope of recognition. The second application, received on July 28, 2022 (OSHA-2006-0042-0038), requested the addition of six standards to the NRTL scope of recognition, as well as the recognition of an additional testing site on the CSA Cleveland Ohio campus. The additional test facility is located at 8801 East Pleasant Valley Road, Cleveland, Ohio 44131. This expansion notice covers the ten standards included in both applications as well as the additional recognized site. OSHA staff performed a detailed analysis of the application packets and reviewed other pertinent information. OSHA performed an on-site review of the additional Cleveland, Ohio site from May 16-17, 2023, in which assessors found some nonconformances with the requirements of 29 CFR 1910.7. CSA addressed these issues sufficiently, and OSHA staff has preliminarily determined that OSHA should grant the applications for test standard expansion and recognition of the additional testing site.

OSHA published the preliminary notice announcing CSA's expansion applications in the Federal Register on April 30, 2024 (89 FR 34271). The agency requested comments by May 15, 2024, but it received no comments in response to this notice.

To obtain or review copies of all public documents pertaining to the CSA's applications, go to http://www.regulations.gov or contact the Docket Office, Occupational Safety and Health Administration, U.S. Department of Labor. Docket No. OSHA-2006-0042 contains all materials in the record concerning CSA's recognition. Contact the OSHA Docket Office at (202) 693-2350 (TTY (877) 889-5627) for assistance in locating docket submissions.

II. Final Decision and Order

OSHA staff examined CSA's expansion applications, its capability to meet the requirements of the test standards, and other pertinent information. Based on its review of this evidence, OSHA finds that CSA meets the requirements of 29 CFR 1910.7 for expansion of its recognition, subject to the limitations and conditions listed in this notice. OSHA, therefore, is proceeding with this final notice to grant CSA's expanded scope of recognition. OSHA limits the expansion of CSA's recognition to testing and certification of products for demonstration of conformance to the test standards listed below in Table 1.

Table 1—List of Appropriate Tests Standards for Inclusion in CSA's NRTL Scope of Recognition
Test standard | Test standard title
UL 6A | Electrical Rigid Metal Conduit- Aluminum, Bronze, and Stainless Steel.
UL 60079-25 | Explosive Atmospheres—Part 25: Intrinsically Safe Electrical Systems.
UL 60079-30-1 | Explosive Atmospheres—Part 30-1: Electrical Resistance Trace Heating—General and Testing Requirements.
UL 60947-4-1 | Safety Low-Voltage Switchgear and Controlgear—Part 4-1: Contactors and Motor-Starters—Electromechanical Contactors and Motor-Starters.
UL 60947-5-1 | Low-Voltage Switchgear and Controlgear—Part 5-1: Control Circuit Devices and Switching Elements—Electromechanical Control Circuit Devices.
UL 60947-5-2 | Low-Voltage Switchgear and Controlgear—Part 5-2: Control Circuit Devices and Switching Elements—Proximity Switches.
UL 61730-1 | Photovoltaic (PV) Module Safety Qualification—Part 1: Requirements for Construction.
UL 61730-2 | Photovoltaic (PV) Module Safety Qualification—Part 2: Requirements for Testing.
UL 5085-2 | Low Voltage Transformers—Part 2: General Purpose Transformers.
UL 60335-2-8 | Household and Similar Electrical Appliances, Part 2: Particular Requirements for Electric Shavers, Hair Clippers and Similar Appliances.

OSHA's recognition of any NRTL for a particular test standard is limited to equipment or materials for which OSHA standards require third-party testing and certification before using them in the workplace. Consequently, if a test standard also covers any products for which OSHA does not require such testing and certification, a NRTL's scope of recognition does not include these products.

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, CSA must abide by the following conditions of the recognition:

1. CSA must inform OSHA as soon as possible, in writing, of any change of ownership, facilities, or key personnel, and of any major change in its operations as a NRTL, and provide details of the change(s);

2. CSA must meet all the terms of its recognition and comply with all OSHA policies pertaining to this recognition; and

3. CSA must continue to meet the requirements for recognition, including all previously published conditions on CSA's scope of recognition, in all areas for which it has recognition.

Pursuant to the authority in 29 CFR 1910.7, OSHA hereby expands the scope of recognition of CSA as a NRTL, subject to the limitations and conditions specified above.

III. Authority and Signature

James S. Frederick, Deputy Assistant Secretary of Labor for Occupational Safety and Health, authorized the preparation of this notice. Accordingly, the agency is issuing this notice pursuant to 29 U.S.C. 657(g)(2), Secretary of Labor's Order No. 8-2020 (85 FR 58393, Sept. 18, 2020), and 29 CFR 1910.7.

Signed at Washington, DC, on July 10, 2024.
James S. Frederick,
Deputy Assistant Secretary of Labor for Occupational Safety and Health.

[FR Doc. 2024-15648 Filed 7-16-24; 8:45 am]

BILLING CODE 4510-26-P